OFFICE OF SCIENCE AND TECHNOLOGY POLICY

Nanoscale Science, Engineering and Technology Subcommittee Committee on Technology, National Science and Technology Council; Public Meetings

AGENCY: Executive Office of the President, Office of Science and Technology Policy.

ACTION: Notice of Public Meetings.

SUMMARY: The National Nanotechnology Coordination Office (NNCO), on behalf of the Nanoscale Science, Engineering, and Technology (NSET) Subcommittee of the Committee on Technology, National Science and Technology Council (NSTC) and in collaboration with the European Commission, will hold the 2012 “EU-U.S.: Bridging NanoEHS Research Efforts” joint workshop on October 25-26, 2012 in Helsinki, Finland. The purpose of this workshop is to further promote and deepen the EU-U.S. collaboration on nanosafety research and to develop the Communities of Research (CoRs). The event is aimed at administrators, policy makers, decision makers, and scientists from the EU and the U.S.

NNCO and the European Commission will also host meetings for the CoRs on the topic of environmental, health, and safety issues related to nanomaterials between the publication date of this Notice and September 30, 2013. These CoRs will provide a platform for scientists from the U.S. and EU to develop a shared repertoire of protocols and methods to overcome research gaps and barriers. The co-chairs for each CoR will convene meetings and set meeting agendas with administrative support from the European Commission and the NNCO.

The CoRs directly address Goal 4.2 of the National Nanotechnology Initiative Strategic Plan: “Develop tools and procedures for * * * international outreach and engagement to assist stakeholders in developing best practices for communicating and managing risks.” However, the CoRs are not envisioned to provide any government agency with advice or recommendations.

The CoRs were proposed at the first U.S.-EU workshop on Bridging NanoEHS Research Efforts, which was held in Washington, DC in March 2011. Based on feedback from the workshop participants, the following six CoR themes were announced in 2012:

• Exposure through the Life Cycle, with Material Characterization.

• Ecotoxicity Testing and Predictive Models, with Material Characterization.

• Predictive Modeling for Human Health, with Material Characterization.

• Databases and Ontologies.

• Risk Assessment.

• Risk Management and Control.

The CoRs will hold several Webinars and/or conference calls between the publication date of this Notice and September 30, 2013. The envisioned end date for the CoRs is September 30, 2013.

DATES: The workshop will be held on Thursday, October 25, 2012 from 9:00 a.m. until 5:30 p.m. and on Friday, October 26, 2012 from 9:00 a.m. until 4:00 p.m. CoR meetings will take place periodically between the publication date of this Notice and September 30, 2013. Meeting dates and call-in information will be posted on the Community of Research page at http://us-eu.org/ as meetings are scheduled.

ADDRESSES: The workshop will be held at Finnish Institute of Occupational Health, Topeliuksenkatu 30, Helsinki, Finland. The CoRs will meet via teleconferences and Web meetings.

Registration: Due to space limitations, pre-registration for the workshop is required. Registration is on a first-come, first-served basis until capacity is reached. Individuals planning to attend the workshop should register online at http://www.ttl.fi/partner/nanoehs_workshop/registration/sivut/default.aspx. Written notices of participation by email should be sent to sstandridge@nnco.nano.gov or mailed to Stacey Standridge, 4201 Wilson Boulevard, Stafford II, Suite 405, Arlington, VA 22230. Individuals wishing to participate in any of the CoRs should send the participant's name, affiliation, and country of residence to Stacey Standridge at either of the addresses above. NNCO will collect email addresses from registrants to ensure that they are included in CoR conference calls and other meetings and that they receive information relevant to the CoR scope from other CoR members. Email addresses are submitted on a completely voluntary basis.

Those interested in presenting 3-5 minutes of public comments at the U.S.-EU workshop on Bridging NanoEHS Research Efforts or any of the CoR meetings should register for the appropriate event. For those who are unable to attend the workshop or CoR meetings in person, written or electronic comments should be submitted by email to sstandridge@nnco.nano.gov at least two business days prior to each meeting to provide time to copy and distribute the written comments to the participants.

Meeting Accommodations: Individuals requiring special accommodation to access these public meetings should contact Stacey Standridge (telephone 703-292-8103) at least ten business days prior to each meeting so that appropriate arrangements can be made.

FOR FURTHER INFORMATION CONTACT: For information regarding this Notice, please contact Stacey Standridge at National Nanotechnology Coordination Office, by telephone (703-292-8103) or email (sstandridge@nnco.nano.gov). Additional information about the workshop, including the agenda, is posted at http://www.ttl.fi/partner/nanoehs_workshop/sivut/default.aspx. Additional information about the CoRs and their upcoming meetings is posted at http://us-eu.org/.

Ted Wackler,
Deputy Chief of Staff and Assistant Director.

[FR Doc. 2012-24867 Filed 10-5-12; 8:45 am]

BILLING CODE P